DEPARTMENT OF EDUCATION

[Docket ID ED-2023-OESE-0043]

Request for Information Regarding the Innovative Assessment Demonstration Authority

AGENCY: Office of Elementary and Secondary Education, Department of Education.

ACTION: Request for information.

SUMMARY: The Department of Education (Department) is requesting information on successful approaches to innovative assessment implementation that can encourage State educational agencies (SEAs) to pursue the Innovative Assessment Demonstration Authority (IADA) and improve statewide assessments. We will use this information to inform our implementation of IADA, under title I, part B of the Elementary and Secondary Education Act of 1965, as amended by the Every Student Succeeds Act (ESEA).

DATES: We must receive your comments on or before May 1, 2023.

ADDRESSES: Submit your comments to this request for information (RFI) through the Federal eRulemaking Portal at regulations.gov. Information on using Regulations.gov, including instructions for accessing agency documents, submitting comments, and viewing the docket, is available on the site, under “FAQ.” Comments submitted by hand delivery, fax, email, or after the comment period will not be accepted. However, if you require an accommodation or cannot otherwise submit your comments via regulations.gov, please contact the program contact person listed under FOR FURTHER INFORMATION CONTACT. To ensure that the Department does not receive duplicate copies, please submit your comments only one time. To ensure that your comments have maximum effect in informing the Department's knowledge base of innovations in assessments, we encourage you to clearly identify the question number that each comment addresses. Additionally, please include the Docket ID at the top of your comments.

Privacy Note: The Department's policy is generally to make comments received from members of the public available for public viewing on the Federal eRulemaking Portal at www.regulations.gov. Therefore, commenters should be careful to include in their comments only information that they wish to make publicly available. Commenters should not include in their comments any information that identifies other individuals or that permits readers to identify other individuals. The Department reserves the right to redact at any time any information that identifies other individuals, includes information that would allow readers to identify other individuals, or includes threats of harm to another person.

This is an RFI only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

FOR FURTHER INFORMATION CONTACT: Patrick Rooney, U.S. Department of Education, 400 Maryland Avenue SW, Room 3W202, Washington, DC 20202. Telephone: (202) 453-5514. Email: patrick.rooney@ed.gov.

If you are deaf, hard of hearing, or have a speech disability and wish to access telecommunications relay services, please dial 7-1-1.

SUPPLEMENTARY INFORMATION: The ESEA requires annual assessments of all students in grades 3-8 and assessments of students once in high school. When developed thoughtfully, these assessments are tools for advancing learning and promoting equity. When assessments are done poorly, in excess, or without a clear purpose, they divert time and resources from teaching and learning. The ESEA affords States important discretion in implementing assessment systems, including the opportunity to pilot new approaches or designs in summative assessments through IADA.

IADA is authorized in section 1204 of the ESEA, and the implementing regulations for IADA are found in 34 CFR 200.104 through 34 CFR 200.108.¹ IADA regulations address the following topics: definitions (§ 200.104); application requirements (§ 200.105); selection criteria (§ 200.106); transition to statewide use (§ 200.107); and extensions, waivers, and withdrawal of authority (§ 200.108).

¹ See: www.ecfr.gov/current/title-34/subtitle-B/chapter-II/part-200/subpart-E/subject-group-ECFR9277b2b0db822d9?toc=1.

IADA seeks to help States interested in fostering and scaling up high-quality, innovative assessments that will replace their current summative assessments. An SEA would require this demonstration authority if the SEA proposes to develop an innovative assessment in any grade or subject that requires academic assessments (section 1111(b)(2)(B) of the ESEA). Additionally, the SEA seeking IADA must first administer the assessment, initially, to students in only a subset of its local educational agencies (LEAs) or schools. Under IADA, schools participating in a pilot assessment would not have to also administer the current statewide assessment in that grade or subject to all students in those LEAs or schools. The State will scale up the innovative assessment over time, eventually using it statewide at the end of the demonstration authority. During the period of the demonstration authority, the results of IADA assessment must be used in the State's accountability system and the results must be included on State and local report cards.

Since 2018, five States have been awarded IADA.² Most recently, in 2021, the Department provided States with an opportunity ³ to apply for the IADA, but no States applied. The Department has received informal feedback from several States and stakeholders that one reason SEAs are reluctant to apply for IADA stems from perceived barriers within the current IADA regulations.

² New Hampshire and Louisiana in 2018; Georgia and North Carolina in 2019; and Massachusetts in 2020. Applications and Annual Reports from these States are available at: https://oese.ed.gov/offices/office-of-formula-grants/school-support-and-accountability/iada/.

³ See: www.federalregister.gov/public-inspection/2021-00882/applications-for-new-authorities-innovative-assessment-demonstration-authority.

Section 1204(b)(2) of the ESEA establishes the five-year period for the demonstration authority, and ESEA section 1204(g) provides the Department with the discretion to extend the authority for an additional two years (if certain conditions are met as specified in 34 CFR 200.108(a)(1)). The ESEA further permits the Secretary to grant additional waivers to a State to extend the State's IADA authority, and the Department's regulations clarify that such waivers would be granted one year at a time.⁴ Section 1204(e)(2)(A)(iv) of the ESEA requires that the State's application must demonstrate that the innovative assessment system will include valid and reliable results that are comparable to all students and for each subgroup of students described in section 1111(b)(2)(B)(xi), as compared to the results for such students on the State assessments under section 1111(b)(2). The Department has heard concerns that the regulations confine State ability to meet this comparability requirement in the statute such that it stifles innovation in new assessments. Section 200.105(b)(4)(i) currently provides the following five options for a State to meet the comparability requirement in the ESEA:

⁴ See: ESEA section 1204(j)(3) and 34 CFR 200.108(c)(2).

(A) Administering full assessments from both the innovative and statewide assessment systems to all students enrolled in participating schools, such that at least once in any grade span (i.e., 3-5, 6-8, or 9-12) and subject for which there is an innovative assessment, a statewide assessment in the same subject would also be administered to all such students. As part of this determination, the innovative assessment and statewide assessment need not be administered to an individual student in the same school year.

(B) Administering full assessments from both the innovative and statewide assessment systems to a demographically representative sample of all students and subgroups of students described in section 1111(c)(2) of the Act, from among those students enrolled in participating schools, such that at least once in any grade span (i.e., 3-5, 6-8, or 9-12) and subject for which there is an innovative assessment, a statewide assessment in the same subject would also be administered in the same school year to all students included in the sample.

(C) Including, as a significant portion of the innovative assessment system in each required grade and subject in which both an innovative and statewide assessment are administered, items or performance tasks from the statewide assessment system that, at a minimum, have been previously pilot tested or field tested for use in the statewide assessment system.

(D) Including, as a significant portion of the statewide assessment system in each required grade and subject in which both an innovative and statewide assessment are administered, items or performance tasks from the innovative assessment system that, at a minimum, have been previously pilot tested or field tested for use in the innovative assessment system.

(E) An alternative method for demonstrating comparability that an SEA can demonstrate will provide for an equally rigorous and statistically valid comparison between student performance on the innovative assessment and the statewide assessment, including for each subgroup of students described in section 200.2(b)(11)(i)(A)-(I) and section 1111(b)(2)(B)(xi) and section 1111(h)(1)(C)(ii) of the Act.

The Department is seeking comments on whether these five approaches are sufficient to support States as they consider developing an assessment for implementation under the IADA authority, what additional examples or models of measuring comparability the Department should consider, and information about ideas or practices States might use to demonstrate comparability under section 200.105(b)(4)(i)(E).

In addition, current IADA regulations do not specify a timeline by which a State approved under IADA must begin to administer an operational IADA assessment in some schools or LEAs. Accordingly, the Department is seeking comments on whether the Department approving a State for IADA that includes a planning period would be helpful to the State in its development work.

We will review every comment and, as described above, electronic comments in response to this RFI will be publicly available on the Federal eRulemaking Portal at www.regulations.gov. Please note that the Department will not directly acknowledge or respond to comments, including comments that contain specific questions or inquiries. Receipt of comments in response to this request for information does not imply that the Department has decided to issue guidance, technical assistance, or other resources.

Detailed Questions: The Department invites stakeholders who are aware of policies and practices in educational assessment that are specifically relevant for innovation to address the following questions in their comments.

1. The Department is interested in whether there are additional considerations or approaches to comparability, whether through changes to current IADA regulations or additional guidance (for elaborating on the “other method” in section 200.105(b)(4)(i)(E)), for the innovative assessment.

a. Are there other methodologies that could be used as models to provide comparable results to current statewide assessments without compromising the innovative nature of the new assessments?

b. Are there ways that a State could plan for an orderly transition from using the achievement standards for the current statewide assessments to achievement standards for the innovative assessment as it scales to statewide use?

c. We note that ESEA section 1204(e)(2)(A)(iv) states that the IADA “generate results that are valid and reliable, and comparable, for all students and for each subgroup of students described in section 1111(b)(2)(B)(xi), as compared to the results for such students on the State assessments under section 1111(b)(2);” and ESEA section 1204(e)(2)(A)(x) states that the IADA “generate an annual, summative achievement determination, based on the aligned State academic achievement standards under section 1111(b)(1) and based on annual data, for each individual student.” Within these statutory requirements, are there other issues with respect to comparability that the Department should clarify, either in regulation or guidance to help states meet this requirement? Please be specific in: (a) describing the issue; (b) identifying the proposed change to address the issue; and (c) identifying how the change will lead to a State being more likely to apply for IADA.

2. Current IADA regulations do not specify a timeline by which a State approved under IADA must administer an operational IADA assessment in some schools or LEAs.

a. Would a State be more likely to submit an IADA application if the Department explicitly provided one or two planning years, after the granting of IADA authority, before the State first administers an operational IADA assessment in some schools or LEAs?

b. Noting that the State would need to have enough detail about its plan for the Department to grant IADA approval or pre-approval, please describe the benefit to the State that would be provided with one or two years of planning time as well as suggestions for the types of activities the State would undertake during the planning time?

3. Please describe any other barriers in the Department's regulations that might preclude a State from applying for IADA. Please be specific in: (a) identifying the regulatory provision; (b) describing the issue; (c) identifying the proposed change to address the issue; and (d) identifying how the change will lead to a State being more likely to apply for IADA.

In providing feedback, commenters are encouraged to cite published research on promising practices and methodologies for innovative assessment design and implementation. The Department is committed to improving the public's access to, and the discoverability of, education research. In service of that goal, we encourage responders to share any publications with us and we invite authors, those who hold copyright, or their authorized representatives to consider depositing eligible content into ERIC, the Institute of Education Sciences' bibliographic and full-text database of education research (https://eric.ed.gov/). More information about submitting content to ERIC, including our selection policy and how to access the online submission portal, can be found at https://eric.ed.gov/submit/.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department. The Department is committed to making its publications available to all members of the public. If you have difficulty understanding English, you may, free of charge, request language assistance services for Department information by calling 1-800-USA-LEARN (1-800-872-5327) (TTY: 1-800-877-8339) or email us at Ed.Language.Assistance@ed.gov.

James F. Lane,
Senior Advisor, Office of the Secretary Delegated the Authority to Perform the Functions and Duties of the Assistant Secretary Office of Elementary and Secondary Education, U.S. Department of Education.

[FR Doc. 2023-06697 Filed 3-30-23; 8:45 am]

BILLING CODE 4000-01-P